ENVIRONMENTAL PROTECTION AGENCY

[FRL OP-OFA-015]

Environmental Impact Statements; Notice of Availability

Responsible Agency: Office of Federal Activities, General Information 202-564-5632 or https://www.epa.gov/nepa.

Weekly receipt of Environmental Impact Statements (EIS)

Filed April 26, 2022 10 a.m. EST Through May 2, 2022 10 a.m. EST

Pursuant to 40 CFR 1506.9

Notice

Section 309(a) of the Clean Air Act requires that EPA make public its comments on EISs issued by other Federal agencies. EPA's comment letters on EISs are available at: https://cdxnodengn.epa.gov/cdx-enepa-public/action/eis/search.

EIS No. 20220061, Final, BLM, WY, Proposed RMP Amendment and Final EIS for Wild Horse Management in the Rock Springs and Rawlins Field Offices, Wyoming, Review Period Ends: 06/06/2022, Contact: Kimberlee Foster 307-352-0256.

EIS No. 20220062, Revised Draft, USACE, MS, Memphis Metropolitan Stormwater—North DeSoto County Feasibility Study, DeSoto County, Mississippi, Comment Period Ends: 06/20/2022, Contact: Andrea Carpenter-Crowther 901-544-0817.

Dated: May 2, 2022.
Cindy S. Barger,
Director, NEPA Compliance Division, Office of Federal Activities.

[FR Doc. 2022-09746 Filed 5-5-22; 8:45 am]

BILLING CODE 6560-50-P